SMALL BUSINESS ADMINISTRATION

[Declaration of Disaster #3415]

Commonwealth of Kentucky; Amendment # 1

In accordance with a notice received from the Federal Emergency Management Agency, dated May 9, 2002, the above numbered declaration is hereby amended to include Boyle, Casey, Clay, Floyd, Jackson, Knott, Knox, Larue, Laurel, Letcher, Marion, Martin, McCreary, Nelson, Pike, Pulaski, Rockcastle, Taylor, Washington and Whitley Counties in the Commonwealth of Kentucky as disaster areas due to damages caused by severe storms, tornadoes and flooding occurring on April 27, 2002 and continuing.

In addition, applications for economic injury loans from small businesses located in the following contiguous counties may be filed until the specified date at the previously designated location: Adair, Anderson, Bell, Breathitt, Estill, Garrard, Green, Harlan, Johnson, Lawrence, Lee, Leslie, Lincoln, Madison, Magoffin, Mercer, Owsley, Perry, Russell, Spencer and Wayne Counties in the Commonwealth of Kentucky; Campbell, Claiborne and Scott Counties Tennessee; Buchanan, Dickenson and Wise Counties Virginia; and Mingo and Wayne Counties West Virginia. All other contiguous counties have been previously declared.

The economic injury numbers assigned are 9P6400 for Tennessee; 9P6500 for Virginia; and 9P6600 for West Virginia.

All other information remains the same, i.e., the deadline for filing applications for physical damage is July 6, 2002, and for economic injury the deadline is February 7, 2003.

(Catalog of Federal Domestic Assistance Program Nos. 59002 and 59008)
Dated: May 10, 2002.
S. George Camp,
Acting Associate Administrator for Disaster Assistance.

[FR Doc. 02-12467 Filed 5-16-02; 8:45 am]

BILLING CODE 8025-01-P